DEPARTMENT OF HEALTH AND HUMAN SERVICES

Centers for Medicare & Medicaid Services

[CMS-1330-N]

Medicare Program; Town Hall Meeting on the Medicare Provider Feedback Group (MPFG)—September 12, 2005

AGENCY: Centers for Medicare & Medicaid Services (CMS), HHS.

ACTION: Notice of meeting.

SUMMARY: This notice announces a Town Hall meeting on the Medicare Provider Feedback Group (MPFG). The purpose of the meeting is to solicit facts and opinions from individual Medicare providers and suppliers on a variety of Medicare policy and operational issues. All Medicare providers and suppliers that participate in the Medicare program, including physicians, hospitals, home health agencies, and other third-party billers, are invited to attend this meeting. We will consider facts and opinions obtained from individual Medicare providers and suppliers. The meeting is open to the public, but attendance is limited to space available.

DATES: Meeting Date: The Town Hall meeting announced in this notice will be held on September 12, 2005 from 2 p.m. to 4 p.m. EST.

ADDRESSES: The Town Hall meeting will be held in the Auditorium in the central building of the Centers for Medicare & Medicaid Services, 7500 Security Boulevard, Baltimore, Maryland 21244-1850.

FOR FURTHER INFORMATION CONTACT: Eva Tetteyfio, (410) 786-3136. You may also send e-mail inquiries about this meeting to MFG@cms.hhs.gov.

SUPPLEMENTARY INFORMATION:

I. Background

On November 16, 2004, we held the first Medicare Provider Feedback Town Hall meeting to solicit the facts and opinions of individual Medicare providers and suppliers. Topics discussed during the November 16, 2004 meeting included Medicare Fee-for-Service (FFS) Chronic Care Improvement Programs, CMS electronic medical records, CMS Provider Outreach, and consolidated billing. After the meeting, we conducted follow-up meetings to clarify information received and solicited additional comments.

At the September 12, 2005 meeting, we will explain our design for gathering individual provider and supplier information and present topics for provider and supplier input. We will also solicit facts and opinions on how we can better serve the Medicare provider and supplier community.

II. Meeting Format

This meeting will begin with an overview of the goals and objectives of the meeting that includes a discussion of our efforts to gather feedback from individual Medicare providers and suppliers. We will introduce the meeting moderator. We will also introduce members of the Provider Communications Group, Center for Medicare Management, who will provide background information on the Medicare Provider Feedback Group initiative. Topics to be discussed during the meeting include:

• The important information for individual providers and suppliers on our implementation of the National Provider Identifier (NPI).

• The elimination of the Standard Paper Remittance (SPR) advice notices and their effect on individual provider and supplier practices.

• The impact of the implementation and procurement of Medicare Contracting Reform on individual providers and suppliers.

• A discussion and summary of the proposed rule for the 2006 physician fee-schedule.

• The effect of a revised payment system for Ambulatory Surgical Center (ASC) facility services.

• Individual perspectives from hospitals on how Medicare pays for new technologies.

We will hold a question and answer session that offers meeting attendees an opportunity to provide feedback on the topics discussed. We will also solicit suggestions on how this process can be improved.

III. Registration Instructions

The Provider Communications Group, Center for Medicare Management, Division of Provider Relations and Evaluations is the coordinator for this meeting. On-line Registration: An on-line registration tool is available for interested individuals who wish to participate in the meeting in person, by teleconference, or listen to a digital recording of the meeting. The on-line registration system will capture contact information and practice characteristics such as names, e-mail addresses, and provider and supplier types.

Registration will begin on August 19, 2005. Persons interested in attending the meeting and providing feedback must complete the on-line registration located at http://registration.mshow.com/cms2/. The on-line registration system will generate a confirmation page to indicate the completion of your registration. Interested parties, who will attend the meeting in person, must print the confirmation page and bring it with them to the meeting. We encourage all interested parties to complete the registration as soon as possible. Registration after 12 p.m. on September 9, 2005 will delay confirmation, and individuals may not be permitted entrance to the building. However, registrations received after September 12 will enable individuals to listen to a digital recording of the meeting that will be available beginning 2 hours after the meeting through midnight on September 14, 2005. The online registration will close on September 16, 2005.

Teleconference Participation: Individuals may participate in the public meeting by teleconference. The dial-in number is 877-357-7851 and the conference identification number is 7970566. Physicians and other interested parties may speak or ask questions during the question and answer period facilitated by the moderator. Parties may also submit written comments to Eva Tetteyfio at MFG@cms.hhs.gov.

IV. Security Information

Since this meeting will be held in a Federal government building, Federal security measures are applicable. In planning your arrival time, we recommend allowing additional time to clear security. In order to gain access to the building and grounds, participants must bring a government-issued photo identification and a copy of their confirmation of registration for the meeting. Access may be denied to persons without proper identification.

Security measures also include inspection of vehicles, inside and out, at the entrance to the grounds. In addition, all persons entering the building must pass through a metal detector. All items brought to CMS, whether personal, for the purpose of demonstration, or to support a presentation are subject to inspection. Laptops and other computer equipment must be registered with the security desk upon entry. We cannot assume responsibility for coordination of the receipt, transfer, transport, storage, set-up, safety, or timely arrival of any personal belongings or items used for a demonstration or to support a presentation. Participants should e-mail presentations to us before the meeting to ensure that we have a back-up copy in the event of computer problems or lack of software or memory card compatibility. Please note that CMS headquarters is a smoke-free facility.

Special Accommodations: Individuals requiring sign language interpretation or other special accommodations must contact Eva Tetteyfio by e-mail at MFG@cms.hhs.gov by September 6, 2005.

Authority: Section 1811 and 1831 of the Social Security Act (42 U.S.C. 1395c and 1395j).

(Catalog of Federal Domestic Assistance Program No. 93.774, Medicare—Supplementary Medical Insurance Program)

Dated: August 9, 2005.
Mark B. McClellan,
Administrator, Centers for Medicare & Medicaid Services.

[FR Doc. 05-16797 Filed 8-25-05; 8:45 am]

BILLING CODE 4120-03-P